COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List services to be furnished by nonprofit agencies employing persons who are blind or have other severe disabilities.

COMMENTS MUST BE RECEIVED ON OR BEFORE: February 25, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: This notice is published pursuant to 41 U.S.C. 47(a) (2) and 41 CFR 51-2.3. Its purpose is to provide interested persons an opportunity to submit comments on the possible impact of the proposed actions.

If the Committee approves the proposed additions, the entities of the Federal Government identified in this notice will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46—48c) in connection with the services proposed for addition to the Procurement List. Comments on this certification are invited. Commenters should identify the statement(s) underlying the certification on which they are providing additional information.

The following services are proposed for addition to Procurement List for production by the nonprofit agencies listed:

Service

Janitorial/Custodial, Environmental Protection Agency/Western Ecology Division, National Health and Environmental Effects Research Laboratory,Main Site and Research Station, Corvallis, Oregon.

NPA: Williamette Valley Rehabilitation Center, Inc., Lebanon, Oregon.

Government Agency: Environmental Protection Agency.

Service

Janitorial/Custodial, VA Medical Center, Salem Primary Care Clinic,Salem, Oregon.

NPA: The Garten Foundation, Salem, Oregon.

Government Agency: Portland Veterans Affairs Medical Center.

Service

Laundry Service, Naval Air Station, Patuxent River, Maryland.

NPA: Rappahannock Goodwill Industries, Inc., Fredericksburg, Virginia.

Government Agency: Department of the Navy.

Service

Transcription Services, Equal Employment Office, Federal Bureau of Prisons, Washington, DC.

NPA: The Lighthouse of Houston, Houston, Texas.

Government Agency: Federal Bureau of Prisons.

Sheryl D. Kennerly,
Director, Information Management.

[FR Doc. 02-1885 Filed 1-24-02; 8:45 am]

BILLING CODE 6353-01-P